DEPARTMENT OF COMMERCE

National Oceanic and Atmospheric Administration

[RTID 0648-XC614]

South Atlantic Fishery Management Council; Public Meetings

AGENCY: National Marine Fisheries Service (NMFS), National Oceanic and Atmospheric Administration (NOAA), Commerce.

ACTION: Notice of public hearings.

SUMMARY: The South Atlantic Fishery Management Council (Council) will hold two public hearings via webinar pertaining to Amendment 53 to the Fishery Management Plan (FMP) for Snapper Grouper Resources in the South Atlantic Region. This amendment addresses a rebuilding plan, catch levels, sector allocations, and changes to commercial and recreational management measures for the South Atlantic stock of gag and modifications to recreational management measures for black grouper.

DATES: The public hearings will be held January 10 and 11, 2023, via webinar beginning at 6 p.m., EDT.

ADDRESSES:

Meeting addresses: The hearings will be held via webinar. Registration is required. Information, including a link to webinar registration will be posted on the Council's website at: https://safmc.net/public-hearings-and-scoping/ as it becomes available.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net.

SUPPLEMENTARY INFORMATION: Public hearing documents, an online public comment form, and other materials will be posted to the Council's website at https://safmc.net/public-hearings-and-scoping/ as they become available. Written comments should be addressed to John Carmichael, Executive Director, SAFMC, 4055 Faber Place Drive, Suite 201, N. Charleston, SC 29405. Written comments must be received by February 13, 2023, by 5 p.m. During the hearings Council staff will provide an overview of actions being considered in the amendment. Staff will answer clarifying questions on the presented information and the proposed actions. Following the presentation and questions, the public will have the opportunity to provide comments on the amendment.

Amendment 53 to the Snapper Grouper FMP

Amendment 53 would establish a rebuilding plan for the South Atlantic gag based on the most recent stock assessment (SEDAR 71) indicating the stock is overfished and experiencing overfishing. The Amendment also includes modifications to the South Atlantic gag acceptable biological catch, annual catch limit, sector allocations, and commercial and recreational management measures. Catch limits are being adjusted in response to the latest stock assessment. Modifications to South Atlantic black grouper recreational management measures are also being considered in the amendment due to identification issues between the species.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: December 23, 2022.
Ngagne Jafnar Gueye,
Acting Director, Office of Sustainable Fisheries, National Marine Fisheries Service.

[FR Doc. 2022-28365 Filed 12-28-22; 8:45 am]

BILLING CODE 3510-22-P